DEPARTMENT OF LABOR

Employment and Training Administration

[TA-W-51,830]

Kaneka Delaware Corporation, Delaware City, DE; Notice of Termination of Investigation

Pursuant to section 221 of the Trade Act of 1974, as amended, an investigation was initiated on May 20, 2003 in response to a worker petition filed by a company official on behalf of workers at Kaneka Delaware Corporation, Delaware City, Delaware.

The petitioner has requested that the petition be withdrawn. Consequently, the investigation has been terminated.

Signed in Washington, DC this 3rd day of June, 2003.
Linda G. Poole,
Certifying Officer, Division of Trade Adjustment Assistance.

[FR Doc. 03-15488 Filed 6-18-03; 8:45 am]

BILLING CODE 4510-30-P